DEPARTMENT OF THE INTERIOR

Bureau of Land Management

[LLNV912000 L10200000.PH0000 LXSS0006F0000; 12-08807; MO#4500120116; TAS: 14X1109]

Notice of Public Meeting: Sierra Front-Northwestern Great Basin Resource Advisory Council, Nevada

AGENCY: Bureau of Land Management, Interior.

ACTION: Notice.

SUMMARY: In accordance with the Federal Land Policy and Management Act of 1976 and the Federal Advisory Committee Act of 1972, the U.S. Department of the Interior, the Bureau of Land Management (BLM) Sierra Front-Northwestern Great Basin Resource Advisory Council (RAC) will meet as indicated below.

DATES: The SFNW RAC will hold a public meeting on Thursday, July 26, 2018, from 8 a.m. to 4 p.m. and a field trip to the Pine Forest Wilderness on Friday, July 27, 2018, from 7:00 a.m. to 4 p.m. Public comment periods will be held on July 26 at 8:05 a.m. and 3:30 p.m.

ADDRESSES: The July 26, 2018, meeting will be held at the BLM Winnemucca District Office, 5100 East Winnemucca Boulevard, Winnemucca, Nevada, 89445. Field trip participants will meet at the BLM Winnemucca District Office at 7:00 a.m. on July 27, 2018.

FOR FURTHER INFORMATION CONTACT: Lisa Ross, Public Affairs Specialist, at 775-885-6107, Carson City District Office, 5665 Morgan Mill Road, Carson City, NV 89701, or lross@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The 15-member Sierra Front-Northwestern Great Basin RAC was chartered to serve in an advisory capacity concerning the planning and management of the public land resources located within Nevada. Members represent an array of stakeholder interests in the land and resources from within the local area and statewide. Both the meeting and field trip are open to the public. However, the public is required to provide its own transportation for the field trip.

Topics for discussion at each meeting will include, but are not limited to:

• July 26, 2018—Planned agenda items at the meeting include, but are not limited to district manager and subcommittee reports, wildlife management, and updates on energy and mineral development and Burning Man.

• July 27, 2018—Field trip to the Pine Forest Wilderness.

The RAC may raise other topics at the meetings. Final agendas are posted online two weeks prior to the meeting on the BLM Sierra Front-Northwestern Great Basin RAC website at https://go.usa.gov/xQTsA.

Individuals who plan to attend and need special assistance, such as sign language interpretation or other reasonable accommodations, or who wish to receive a copy of each agenda, may contact the person listed above no later than 10 days prior to the meeting.

Persons wishing to make comments during the public comment period of the meeting should register in person with the BLM, at the meeting location, before the meeting's public comment period. Depending on the number of persons wishing to comment, the amount of time for individual oral comments may be limited. The public may also submit written comments to the person listed above no later than July 20 to be made available to the RAC at the July 26, 2018, meeting. All written comments received will be provided to the council members. Before including your address, phone number, email address, or other personal information in your comments, please be aware that your entire comment, including your personal identifying information, may be made publicly available at any time. While you can ask us in your comment to withhold your personal information from public review, we cannot guarantee that we will be able to do so.

Authority: 43 CFR 1784.4-2.

Rudy Evenson,
Deputy Chief, Office of Communications.

[FR Doc. 2018-12611 Filed 6-11-18; 8:45 am]

BILLING CODE 4310-HC-P